DEPARTMENT OF LABOR

Employment and Training Administration

[TA-W-40,291]

U.S. Bronze Foundry & Machine Incorporated, Meadville, Pennsylvania; Notice of Termination of Investigation

Pursuant to Section 221 of the Trade Act of 1974, an investigation was initiated on October 29, 2001, in response to a petition filed by a company official on behalf of workers at U.S. Bronze Foundry & Machine Inc., Meadville, Pennsylvania.

The petitioner has requested that the petition be withdrawn. Consequently, further investigation in this case would serve no purpose, and the investigation has been terminated.

Signed in Washington, DC this 12th day of March, 2002.
Linda G. Poole,
Certifying Officer, Division of Trade Adjustment Assistance.

[FR Doc. 02-7601 Filed 3-28-02; 8:45 am]

BILLING CODE 4510-30-M